DEPARTMENT OF DEFENSE

Department of the Air Force

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license agreement to Temple University—Of The Commonwealth System Of Higher Education, having a place of business at 1801 N. Broad St, Conwell Hall Rm 401, Philadelphia, PA 19122.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. AFD 1870 in the subject line of the message.

FOR FURTHER INFORMATION CONTACT: Charles Figer, Air Force Materiel Command Law Office, AFMCLO/JAZ, 2240 B Street, Rm 260, Wright-Patterson AFB, OH 45433-7109; Office: (937) 904-5032 ; Email: afmclo.jaz.tech@us.af.mil.

SUPPLEMENTARY INFORMATION: The Department of the Air Force intends to grant the exclusive patent license agreement to consolidate rights with co-owner Temple University for the invention described in: Invention Disclosure entitled “Resource Allocation in Dual-Function

Radar Comms Systems” as disclosed in Air Force Docket No. AFD 1944 and Temple University Docket No. C2019-021, the consolidation of rights is in the best interest of both owners in order to promote commercialization of the technology. The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Adriane Paris,
Acting Air Force Federal Register Liaison Officer.

[FR Doc. 2020-12393 Filed 6-9-20; 8:45 am]

BILLING CODE 5001-10-P